DEPARTMENT OF JUSTICE

Bureau of Alcohol, Tobacco, Firearms and Explosives

[OMB Number 1140-0094]

Agency Information Collection Activities; Proposed eCollection of eComments Requested; Certification of Qualifying State Relief From Disabilities Program—ATF Form 3210.12

AGENCY: Bureau of Alcohol, Tobacco, Firearms and Explosives, Department of Justice.

ACTION: 30-Day notice.

SUMMARY: The Bureau of Alcohol, Tobacco, Firearms and Explosives (ATF), Department of Justice (DOJ) will submit the following information collection request to the Office of Management and Budget (OMB) for review and approval in accordance with the Paperwork Reduction Act of 1995.

DATES: Comments are encouraged and will be accepted for an additional 30 days until September 2, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and, if so, how the quality, utility, and clarity of the information to be collected can be enhanced; and

• Minimize the burden of the collection of information on those who are to respond, including through the use of appropriate automated, electronic, mechanical, or other technological collection techniques or other forms of information technology, e.g., permitting electronic submission of responses.

Overview of This Information Collection

(1) Type of Information Collection: Extension without Change of a Currently Approved Collection.

(2) The Title of the Form/Collection: Certification of Qualifying State Relief from Disabilities Program.

(3) The agency form number, if any, and the applicable component of the Department sponsoring the collection:

Form number: ATF Form 3210.12.

Component: Bureau of Alcohol, Tobacco, Firearms and Explosives, U.S. Department of Justice.

(4) Affected public who will be asked or required to respond, as well as a brief abstract:

Primary: State, Local, or Tribal Government.

Other: None.

Abstract: The Certification of Qualifying State Relief from Disabilities Program—ATF Form 3210.12 is used by a State official to certify to the Bureau of Alcohol, Tobacco, Firearms, and Explosives (ATF) that it has established a qualifying mental health relief from firearms disabilities program that satisfies certain minimum criteria established by the NICS Improvement Amendment Act of 2007 (NIAA), Public Law 110-180.

(5) An estimate of the total number of respondents and the amount of time estimated for an average respondent to respond: An estimated 50 respondents will respond to this collection once annually, and it will take each respondent approximately 15 minutes to complete their responses.

(6) An estimate of the total public burden (in hours) associated with the collection: The estimated annual public burden associated with this collection is 12.5 or 13 hours, which is equal to 50 (total respondents) * 1 (# of response per respondent) * .25 (15 minutes or the time taken to prepare each response).

If additional information is required contact: Robert Houser, Assistant Director, Policy and Planning Staff, Office of the Chief Information Officer, Justice Management Division, United States Department of Justice, Two Constitution Square, 145 N Street NE, Mail Stop 3.E-206, Washington, DC 20530.

Dated: July 29, 2022.
Robert Houser,
Assistant Director, Policy and Planning Staff, Office of the Chief Information Officer, U.S. Department of Justice.

[FR Doc. 2022-16578 Filed 8-2-22; 8:45 am]

BILLING CODE 4410-FY-P